DEPARTMENT OF AGRICULTURE

Submission for OMB Review; Comment Request

April 26, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Forest Land Enhancement Program.

OMB Control Number: 0596-0168.

Summary of Collection: The Forest Land Enhancement Program (FLEP) is authorized in the Farm Security and Rural Investment Act of 2002 (Pub. L. 107-711) through an amendment to the Cooperative Forestry Assistance Act (16 U.S.C. 2103). The goals of FLEP are to: (1) Enhance the productivity of timber, fish and wildlife habitat, soil and water quality, wetland, recreational resources and aesthetic values of private non-industrial private forestland; and (2) establish, manage, maintain, enhance, and restore such forests. The act requires establishing a grants program to achieve sustainable forestry; assist owners of non-industrial private forestlands to more actively manage these lands and related resources; and encourage such owners to use State, Federal, and private sector resource management expertise, financial assistance and educational programs. Through FLEP, States can cost-share up to 75% to implement eligible forest management practices on non-industrial private forest ownerships. In order to be eligible for cost-share, landowners must have a forest management plan that has been approved by their State forester.

Need and Use of the Information: The Forest Service (FS) will collect information to describe how the program will be implemented in each State. The plans must (1) Describe how the State will allocate FLEP funding among the four major categories of administration, resource management expertise, education, and financial assistance; (2) describe how cost-share funds shall be made available to eligible participants; (3) describe ownership and acreage limitations; (4) define what constitutes a forest management plan; (5) identify landowner payment limitations; (6) identify eligible cost-share practices; (7) describe how funds may be distributed to participants; and (8) describe program application and reimbursement processes. If these information collection requirements were not implemented, it would be virtually impossible to provide proper Federal oversight for the new program.

Description of Respondents: State, Local or Tribal Government; Individuals or households; Farms.

Number of Respondents: 16,659.

Frequency of Responses: Reporting: Semi-annually; Annually.

Total Burden Hours: 66,516.

Charlene Parker,
Departmental Information Collection Clearance Officer.

[FR Doc. E6-6558 Filed 5-1-06; 8:45 am]

BILLING CODE 3410-11-P